DEPARTMENT OF LABOR

Employment and Training Administration

[TA-W-58,562]

Scholle Packaging, Rancho Dominguez, CA; Notice of Termination of Investigation

Pursuant to section 221 of the Trade Act of 1974, as amended, an investigation was initiated on December 30, 2005 in response to a worker petition filed by a company official on behalf of workers at Scholle Packaging, Rancho Dominguez, California.

The petitioner has requested that the petition be withdrawn. Consequently, the investigation has been terminated.

Signed at Washington, DC this 17th day of January 2006.
Richard Church,
Certifying Officer, Division of Trade Adjustment Assistance.

[FR Doc. E6-1141 Filed 1-27-06; 8:45 am]

BILLING CODE 4510-30-P